DEPARTMENT OF LABOR

Office of the Secretary

All Items Consumer Price Index for All Urban Consumers; United States City Average

Pursuant to Section 315(c) of the Federal Election Campaign Act of 1971, as amended (Pub. L. 92-225), 52 U.S.C. 30116(c), the Secretary of Labor has certified to the Chair of the Federal Election Commission and publishes this notice in the Federal Register that the United States City Average All Items Consumer Price Index for All Urban Consumers (CPI-U) (1967=100) increased 536.2 percent from its 1974 annual average of 147.7 to its 2024 annual average of 939.672 and that it increased 77.2 percent from its 2001 annual average of 530.4 to its 2024 annual average of 939.672. Using 1974 as a base (1974=100), I certify that the CPI-U increased 536.2 percent from its 1974 annual average of 100 to its 2024 annual average of 636.203. Using 2001 as a base (2001=100), I certify that the CPI-U increased 77.2 percent from its 2001 annual average of 100 to its 2024 annual average of 177.163. Using 2006 as a base (2006=100), I certify that the CPI-U increased 55.6 percent from its 2006 annual average of 100 to its 2024 annual average of 155.601.

Signed at Washington, DC.
Lori Chavez-DeRemer,
Secretary of Labor.

[FR Doc. 2025-11549 Filed 6-23-25; 8:45 am]

BILLING CODE 4510-24-P